DEPARTMENT OF THE INTERIOR

Fish and Wildlife Service

List of Programs Eligible for Inclusion in Fiscal Year 2007 Funding Agreements With Self-Governance Tribes

AGENCY: Fish and Wildlife Service, Interior.

ACTION: Notice.

SUMMARY: We, the Fish and Wildlife Service (Service), publish this notice to list programs or portions of our programs that are eligible for inclusion in Fiscal Year 2007 funding agreements with self-governance tribes, and to list programmatic targets pursuant to section 405(c)(4) of the Tribal Self-Governance Act.

DATES: This notice expires on September 30, 2007.

ADDRESSES: Direct any inquiries or comments about this notice to the American Indian Liaison Office, U.S. Fish and Wildlife Service, 1849 C Street, NW., Washington, DC 20240.

FOR FURTHER INFORMATION: For questions regarding self-governance, contact Patrick Durham, Native American Liaison, U.S. Fish and Wildlife Service, 1849 C Street, NW., Washington, DC 20240; telephone, 202-208-4133; fax 202-208-3524.

SUPPLEMENTARY INFORMATION:

I. Background

Title II of the Indian Self-Determination Act Amendments of 1994 (Pub. L. 103-413, the “Tribal Self-Governance Act” or the “Act”) instituted a permanent self-governance program at the Department of the Interior (DOI). Under the self-governance program, certain programs, services, functions, and activities, or portions thereof, in DOI bureaus other than the Bureau of Indian Affairs (BIA) are eligible to be planned, conducted, consolidated, and administered by a self-governance tribal government.

Under section 405(c) of the Act, the Secretary of the Interior is required to publish annually: (1) A list of non-BIA programs, services, functions, and activities, or portions thereof, that are eligible for inclusion in agreements negotiated under the self-governance program; and (2) programmatic targets for these bureaus.

Under the Act, two categories of non-BIA programs are eligible for self-governance annual funding agreements (AFAs):

(1) Under section 403(b)(2) of the Act, any non-BIA program, service, function or activity that is administered by DOI that is “otherwise available to Indian tribes or Indians” can be administered by a tribal government through a self-governance AFA. The Department interprets this provision to authorize the inclusion of programs eligible for self-determination contracts under Title I of the Indian Self-Determination and Education Assistance Act (Pub. L. 93-638, as amended). Section 403(b)(2) also specifies: “nothing in this subsection may be construed to provide any tribe with a preference with respect to the opportunity of the tribe to administer programs, services, functions and activities, or portions thereof, unless such preference is otherwise provided by law.”

(2) Under section 403(c) of the Act, the Secretary may include other programs, services, functions, and activities or portions thereof that are of “special geographic, historical, or cultural significance” to a self-governance tribe.

Under section 403(k) of the Act, AFAs cannot include programs, services, functions, or activities that are inherently Federal or where the statute establishing the existing program does not authorize the type of participation sought by the tribe. However, a tribe (or tribes) need not be identified in the authorizing statutes in order for a program or element to be included in a self-governance AFA. While general legal and policy guidance regarding what constitutes an inherently Federal function exists, we will determine whether a specific function is inherently Federal on a case-by-case basis considering the totality of circumstances.

The Office of Self-Governance requested comments on the proposed list for all bureaus on June 14, 2006. A number of editorial and technical changes were provided by Interior's bureaus and incorporated into separate bureau-specific notices. While the notice of June 14, 2006, illustrated all eligible non-BIA programs for DOI, this notice is particular to the Fish and Wildlife Service.

II. Existing AFAs between Self-Governance Tribes and the Fish and Wildlife Service

1. Council of Athabascan Tribal Governments.

2. Confederated Salish and Kootenai Tribes of the Flathead Reservation.

III. Eligible Non-BIA Programs of the Service

Below is a listing of the types of non-BIA Service programs, or portions thereof, that may be eligible for self-governance funding agreements because they either are “otherwise available to Indians” under Title I and not precluded by any other law, or may have “special geographic, historical, or cultural significance” to a participating tribe. The list represents the most current information on programs potentially available to tribes under a self-governance AFA.

We will also consider for inclusion in funding agreements other programs or activities not included below, but which, upon request of a self-governance tribe, we determine to be eligible under either sections 403(b)(2) or 403(c) of the Act. Tribes with an interest in such potential agreements are encouraged to begin such discussions.

Our mission is to conserve, protect, and enhance fish, wildlife, and their habitats for the continuing benefit of the American people. Our primary responsibilities are for migratory birds, endangered species, freshwater and anadromous fisheries, and certain marine mammals. We also have a continuing cooperative relationship with a number of Indian tribes throughout the National Wildlife Refuge System and the Service's fish hatcheries. Any self-governance tribe may contact a national wildlife refuge or national fish hatchery directly concerning participation in our programs under the Act.

Some elements of the following programs may be eligible for inclusion in a self-governance AFA. We developed the list below based on the proximity of an identified self-governance tribe to a national park, monument, preserve, or recreation area and the types of programs that have components that may be suitable for contracting through a self-governance AFA. This list is not all-inclusive, but is representative of the types of Service programs which may be eligible for tribal participation through an AFA.

1. Subsistence Programs in the State of Alaska.

2. Technical Assistance:

b. Habitat Surveys.

c. Sport Fish Restoration.

d. Capture of Depredating Migratory Birds.

e. Program Planning.

f. Habitat Restoration Activities.

3. Endangered Species Programs:

a. Cooperative Management of Conservation Programs.

b. Development and Implementation of Recovery Plans.

c. Conducting Status Surveys for High Priority Candidate Species.

d. Participation in the Development of Habitat Conservation Plans.

4. Education Programs:

a. Interpretation.

b. Outdoor Classrooms.

c. Visitor Center Operations.

d. Volunteer Coordination Efforts on- and off-Refuge.

5. Environmental Contaminants Program:

a. Analytical Devices.

b. Removal of Underground Storage Tanks.

c. Specific Cleanup Activities.

d. Natural Resource Economic Analysis.

e. Specific Field Data Gathering Efforts.

6. Fish Hatchery Operations:

a. Egg Taking.

b. Rearing/Feeding.

c. Disease Treatment.

d. Tagging.

e. Clerical/Facility Maintenance.

7. Wetland and Habitat Conservation and Restoration:

a. Construction.

b. Planning Activities.

c. Habitat Monitoring and Management.

8. National Wildlife Refuge Operations and Maintenance:

a. Construction.

b. Farming.

c. Concessions.

d. Maintenance.

e. Comprehensive Management Planning.

f. Biological Program Efforts.

g. Habitat Management.

IV. Locations of Refuges and Hatcheries With Close Proximity to Self-Governance Tribes

1. Alaska National Wildlife Refuges, Alaska.

2. Alchesay National Fish Hatchery, Arizona.

3. Humboldt Bay National Wildlife Refuge, Idaho.

4. Kootenai National Wildlife Refuge, Idaho.

5. Agassiz National Wildlife Refuge, Minnesota.

6. Mille Lacs National Wildlife Refuge, Minnesota.

7. Rice Lake National Wildlife Refuge, Minnesota.

8. National Bison Range, Montana.

9. Ninepipe National Wildlife Refuge, Montana.

10. Pablo National Wildlife Refuge, Montana.

11. Mescalero National Fish Hatchery, New Mexico.

12. Sequoyah National Wildlife Refuge, Oklahoma.

13. Tishomingo National Wildlife Refuge, Oklahoma.

14. Bandon Marsh National Wildlife Refuge, Washington.

15. Dungeness National Wildlife Refuge, Washington.

16. Makah National Fish Hatchery, Washington.

17. Nisqually National Wildlife Refuge, Washington.

18. Quinalt National Fish Hatchery, Washington.

19. San Juan Islands National Wildlife Refuge, Washington.

V. Programmatic Targets

During Fiscal Year 2007, upon request of a self-governance tribe, the Fish and Wildlife Service will negotiate funding agreements for its eligible programs beyond those already negotiated.

Dated: March 6, 2007.
David Verhey,
Acting Assistant Secretary for Fish and Wildlife and Parks.

[FR Doc. E7-5343 Filed 3-22-07; 8:45 am]

BILLING CODE 4310-55-P